DEPARTMENT OF COMMERCE

International Trade Administration

[A-570-060, A-533-875, A-580-893, A-583-860, C-570-061, C-533-876]

Fine Denier Polyester Staple Fiber From the People's Republic of China, India, the Republic of Korea, and Taiwan: Continuation of Antidumping and Countervailing Duty Orders

AGENCY: Enforcement and Compliance, International Trade Administration, Department of Commerce.

SUMMARY: As a result of the determinations by the U.S. Department of Commerce (Commerce) and the U.S. International Trade Commission (ITC) that revocation of the antidumping duty (AD) orders on fine denier polyester staple fiber (fine denier PSF) from the People's Republic of China (China), India, the Republic of Korea (Korea), and Taiwan and countervailing duty (CVD) orders on fine denier PSF from China and India would likely lead to continuation or recurrence of dumping and net countervailable subsidies, and material injury to an industry in the United States, Commerce is publishing this notice of continuation of these AD and CVD orders.

DATES: Applicable April 5, 2024.

FOR FURTHER INFORMATION CONTACT: Luke Caruso or Thomas Martin, AD/CVD Operations, Office IV, Enforcement and Compliance, International Trade Administration, U.S. Department of Commerce, 1401 Constitution Avenue NW, Washington, DC 20230; telephone: (202) 482-2081 or (202) 482-3936, respectively.

SUPPLEMENTARY INFORMATION:

Background

On March 16, 2018, Commerce published in the Federal Register the CVD orders on fine denier PSF from China and India.¹ On July 20, 2018, Commerce published in the Federal Register the AD orders on fine denier PSF from China, India, Korea, and Taiwan.² On February 1, 2023, the ITC instituted,³ and Commerce initiated,⁴ the first sunset reviews of the AD Orders and CVD Orders, pursuant to section 751(c) of the Tariff Act of 1930, as amended (the Act). As a result of its reviews, Commerce determined that revocation of the AD Orders and CVD Orders would likely lead to the continuation or recurrence of dumping and countervailable subsidies, and therefore, notified the ITC of the magnitude of the margins of dumping and subsidy rates likely to prevail should the AD Orders and CVD Orders be revoked.⁵

¹ See Fine Denier Polyester Staple Fiber from the People's Republic of China and India: Amended Final Affirmative Countervailing Duty Determination for the People's Republic of China and Countervailing Duty Orders for the People's Republic of China and India, 83 FR 11681 (March 16, 2018) (collectively, CVD Orders).

² See Fine Denier Polyester Staple Fiber from the People's Republic of China, India, the Republic of Korea, and Taiwan: Antidumping Duty Orders, 83 FR 34545 (July 20, 2018) (collectively, AD Orders).

³ See Fine Denier Polyester Staple Fiber from China, India, South Korea, and Taiwan; Institution of Five-Year Reviews, 88 FR 6790 (February 1, 2023).

⁴ See Initiation of Five-Year (Sunset) Reviews, 88 FR 6700 (February 1, 2023).

⁵ See Fine Denier Polyester Staple Fiber from the People's Republic of China, India, the Republic of South Korea, and Taiwan: Final Results of Expedited First Sunset Reviews of the Antidumping Duty Orders, 88 FR 37512 (June 8, 2023); see also Fine Denier Polyester Staple Fiber from the People's Republic of China: Final Results of the Expedited First Sunset Review of the Countervailing Duty Order, 88 FR 36278 (June 2, 2023); Fine Denier Polyester Staple Fiber from India: Final Results of the Expedited First Sunset Review of the Countervailing Duty Order, 88 FR 37513 (June 8, 2023).

On April 5, 2024, the ITC published its determination, pursuant to section 751(c) of the Act, that revocation of the AD Orders and CVD Orders would likely lead to continuation or recurrence of material injury to an industry in the United States within a reasonably foreseeable time.⁶

⁶ See Fine Denier Polyester Staple Fiber From China, India, South Korea, and Taiwan, 89 FR 24033 (April 5, 2024).

Scope of the AD Orders and CVD Orders

The merchandise covered by the AD Orders and CVD Orders is fine denier polyester staple fiber (fine denier PSF), not carded or combed, measuring less than 3.3 decitex (3 denier) in diameter. The scope covers all fine denier PSF, whether coated or uncoated. The following products are excluded from the scope:

(1) PSF equal to or greater than 3.3 decitex (more than 3 denier, inclusive) currently classifiable under Harmonized Tariff Schedule of the United States (HTSUS) subheadings 5503.20.0045 and 5503.20.0065.

(2) Low-melt PSF defined as a bi-component polyester fiber having a polyester fiber component that melts at a lower temperature than the other polyester fiber component, which is currently classifiable under HTSUS subheading 5503.20.0015.

Fine denier PSF is classifiable under the HTSUS subheading 5503.20.0025. Although the HTSUS subheadings are provided for convenience and customs purposes, the written description of the scope of these AD Orders and CVD Orders is dispositive.

Continuation of the AD Orders and CVD Orders

As a result of the determinations by Commerce and the ITC that revocation of the AD Orders and the CVD Orders would likely lead to continuation or recurrence of dumping, countervailable subsidies, and material injury to an industry in the United States, pursuant to section 751(d)(2) of the Act and 19 CFR 351.218(a), Commerce hereby orders the continuation of the AD Orders and the CVD Orders. U.S. Customs and Border Protection will continue to collect AD and CVD cash deposits at the rates in effect at the time of entry for all imports of subject merchandise.

The effective date of the continuation of the AD Orders and CVD Orders will be April 5, 2024.⁷ Pursuant to section 751(c)(2) of the Act and 19 CFR 351.218(c)(2), Commerce intends to initiate the next sunset review of the AD Orders and the CVD Orders not later than 30 days prior to the fifth anniversary of the effective date of continuation.

⁷ Id.

Notification to Interested Parties

These five-year (sunset) reviews and this notice are in accordance with sections 751(c) and 751(d)(2) of the Act and published in accordance with section 777(i)(1) of the Act and 19 CFR 351.218(f)(4).

Dated: April 5, 2024.
Ryan Majerus,
Deputy Assistant Secretary for Policy and Negotiations, performing the non-exclusive functions and duties of the Assistant Secretary for Enforcement and Compliance.

[FR Doc. 2024-07692 Filed 4-10-24; 8:45 am]

BILLING CODE 3510-DS-P